DEPARTMENT OF ENERGY

Federal Energy Regulatory Commission

[Project No. 2695-005]

Hydro Development Group, Inc., Hydro Development Group Acquisition, LLC; Notice of Transfer of Exemption

1. By letter filed April 24, 2015,¹ William B. Conway, Jr., Counsel for Enel Green Power North America, Inc. (EGPNA),² informed the Commission that the exemption from licensing for the Dexter Project, FERC No. 2695, originally issued June 4, 1982,³ has been transferred to Hydro Development Group Acquisition, LLC, an affiliate of Enel Green Power. The project is located on the Black River in Jefferson County, New York. The transfer of an exemption does not require Commission approval.

¹ Seventeen other exempted projects which are to be transferred were included in the April 24, 2015 letter. These exemptions will be handled under separate proceedings.

² Enel Green Power North America, Inc. is a wholly owned subsidiary of Enel Green Power. Enel Green Power is a well-capitalized publicly traded company.

³ 19 FERC ¶ 61,229, Order Granting Exemption from Licensing of a Small Hydroelectric Project of 5 Megawatts or Less (1982).

2. Hydro Development Group Acquisition, LLC is now the exemptee of the Dexter Project, FERC No. 2695. All correspondence should be forwarded to: Hydro Development Group Acquisition, LLC, c/o Enel Green Power North America, Inc., Attn: General Counsel, 1 Tech Drive, Suite 220, Andover, MA 01810.

Dated: May 18, 2015.
Kimberly D. Bose,
Secretary.

[FR Doc. 2015-12467 Filed 5-21-15; 8:45 am]

BILLING CODE 6717-01-P